DEPARTMENT OF COMMERCE

Office of the Secretary

Proposed Information Collection; Comment Request; DOC National Environmental Policy Act Environmental Questionnaire and Checklist

AGENCY: Office of the Secretary, Office of Administrative Services, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 17, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Genevieve Walker, NEPA Coordinator, (202) 482-2345, U.S. Department of Commerce, Room 1036, 1400 Constitution Avenue, NW., Washington, DC 20230 (or via the Internet at gwalker@doc.gov).

SUPPLEMENTARY INFORMATION:

I. Abstract

The Department of Commerce (DOC) National Environmental Policy Act (NEPA) Environmental Questionnaire and Checklist (EQC) was developed to assist DOC in complying with NEPA by facilitating the collection of data concerning potential environmental impacts, streamlining the collection of that data, and maintaining consistency in quality and quantity of information received.

The EQC address a diverse range of potential environmental issues covered under Federal environmental laws and regulations, and will allow DOC reviewers to rapidly review infrastructure projects, facilitate in evaluating the potential environmental impacts of a project, and help in determining the appropriate level of documentation (Categorical Exclusion, Environmental Assessment, or Environmental Impact Statement) necessary to comply with NEPA.

II. Method of Collection

The form can be submitted via the Internet or paper format.

III. Data

OMB Control Number: 0690-0028.

Form Number(s): CD-593.

Type of Review: Regular submission.

Affected Public: Business or other for-profit organizations; Not-for-profit institutions; Individuals or households.

Estimated Number of Respondents: 200.

Estimated Time per Response: 2 hours.

Estimated Total Annual Burden Hours: 400.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 11, 2010.
Gwellnar Banks,
Management Analyst, Office of the Chief Information Officer.

[FR Doc. 2010-5729 Filed 3-15-10; 8:45 am]

BILLING CODE 3510-NW-P